DEPARTMENT OF COMMERCE

National Institute of Standards and Technology

Judges Panel of the Malcolm Baldrige National Quality Award

AGENCY: National Institute of Standards and Technology, Department of Commerce.

ACTION: Notice of closed meeting.

SUMMARY: The Judges Panel of the Malcolm Baldrige National Quality Award (Judges Panel) will meet in closed session on Thursday, June 20, 2024, from 12 p.m. to 6 p.m. eastern time. The purpose of this meeting is to review the results of examiners' ratings of Baldrige Award applications. Panel members will vote on which applicants merit site visits by examiners to validate the results and resilience, as well as the quality improvements and innovations, claimed by applicants. The meeting is closed to the public in order to protect the proprietary data to be examined and discussed.

DATES: The meeting will be held on Thursday, June 20, 2024, from 12 p.m. to 6 p.m. eastern time. The entire meeting will be closed to the public.

ADDRESSES: The meeting will be held virtually via web conference.

FOR FURTHER INFORMATION CONTACT: Robert Fangmeyer, Director, Baldrige Performance Excellence Program, National Institute of Standards and Technology, 100 Bureau Drive, Mail Stop 1020, Gaithersburg, Maryland 20899-1020, telephone number (301) 975-2361, email robert.fangmeyer@nist.gov.

SUPPLEMENTARY INFORMATION: Pursuant to the FACA, notice is hereby given that the Judges Panel of the Malcolm Baldrige National Quality Award will meet on Thursday, June 20, 2024, from 12 p.m. to 6 p.m. eastern time. The Judges Panel is composed of nine members, appointed by the Secretary of Commerce, with a balanced representation from U.S. service, manufacturing, nonprofit, education, and health care industries. Members are selected for their familiarity with quality improvement operations and competitiveness issues of manufacturing companies, service companies, small businesses, nonprofits, health care providers, and educational institutions. The purpose of this meeting is to review the results of examiners' scoring of written applications. Panel members will vote on which applicants merit site visits by examiners to verify the accuracy of quality improvements claimed by applicants. The meeting is closed to the public in order to protect the proprietary data to be examined and discussed. Pursuant to 41 CFR § 102-3.150(a)(6), written comments may be submitted to the Judges Panel. Please contact Mrs. Robyn Decker by email at robyn.verner@nist.gov; Mailing Address: NIST c/o Robyn Decker 100 Bureau Drive, MS 1020 Gaithersburg, MD 20899; or 301-975-2361. Please provide her with your name, email, and phone number, and your written comment for the Judges Panel.

The Deputy Assistant Secretary for Administration performing the non-exclusive functions and duties of the Chief Financial Officer and Assistant Secretary for Administration, with the concurrence of the Assistant General Counsel for Employment, Litigation, and Information, formally determined on May 24, 2024, pursuant to section 10(d) of the Federal Advisory Committee Act, as amended by Section 5(c) of the Government in the Sunshine Act, Public Law 94-409, that the meeting of the Judges Panel may be closed to the public in accordance with 5 U.S.C. 552b(c)(4) because the meeting is likely to disclose trade secrets and commercial or financial information obtained from a person and are privileged or confidential, and 5 U.S.C. 552b(c)(9)(B) because the meeting is likely to disclose information the premature disclosure of which would be likely to significantly frustrate implementation of a proposed agency action. The meeting, which involves examination of current Malcolm Baldrige National Quality Award (Award) applicant data from U.S. organizations and a discussion of these data as compared to the Award criteria in order to recommend Award recipients, will be closed to the public.

Authority: 15 U.S.C. 3711a(d)(1) and the Federal Advisory Committee Act, as amended (FACA), 5 U.S.C. 1001 et seq.

Alicia Chambers,
NIST Executive Secretariat.

[FR Doc. 2024-12168 Filed 6-3-24; 8:45 am]

BILLING CODE 3510-13-P